DEPARTMENT OF TRANSPORTATION

Surface Transportation Board

[STB Finance Docket No. 34261]

Summit View, Inc.—Continuance in Control Exemption—Aliquippa & Ohio River Railroad Co.

Summit View, Inc. (Summit), a noncarrier, has filed a verified notice of exemption to continue in control of Aliquippa & Ohio River Railroad Co. (AORR), upon AORR's becoming a Class III railroad.

The transaction was scheduled to be consummated on October 10, 2002, the effective date of the exemption (7 days after the notice was filed).

This transaction is related to the concurrently filed verified notice of exemption in STB Finance Docket No. 34260, Aliquippa & Ohio River Railroad Co.,—Acquisition and Operation Exemption—Lines in Aliquippa, PA, wherein AORR seeks to acquire and operate approximately 21 miles of rail lines currently owned and operated by Aliquippa & Southern Railroad (A&S), in the vicinity of Aliquippa, PA. AORR will interchange with CSX Transportation, Inc., at Aliquippa. AORR will handle freight traffic for the customers formerly served by A&S, without any change in material level or quality of transportation service.

At the time it filed this notice, Summit controlled nine Class III railroads: The Columbus & Ohio River Rail Road Company; Ohio Central Railroad, Inc.; Mahoning Valley Railway Company; Ohio & Pennsylvania Railroad Company; Ohio Southern Railroad, Inc; Youngstown & Austintown Railroad, Inc.; Warren & Trumbull Railroad Company; the Youngstown Belt Railroad Company; and the Pittsburgh & Ohio Central Railroad Company, all operating in the States of Pennsylvania and Ohio.

AORR states that: (1) The railroads do not connect with each other or any railroad in their corporate family; (2) the continuance in control is not part of a series of anticipated transactions that would connect the ten railroads with each other or any railroad in their corporate family; and (3) the transaction does not involve a Class I carrier. Therefore, the transaction is exempt from the prior approval requirements of 49 U.S.C. 11323. See 49 CFR 1180.2(d)(2).

Under 49 U.S.C. 10502(g), the Board may not use its exemption authority to relieve a rail carrier of its statutory obligation to protect the interests of its employees. Section 11326(c), however, does not provide for labor protection for transactions under sections 11324 and 11325 that involve only Class III rail carriers. Because this transaction involves Class III rail carriers only, the Board, under the statute, may not impose labor protective conditions for this transaction.

If the notice contains false or misleading information, the exemption is void ab initio. Petitions to revoke the exemption under 49 U.S.C. 10502(d) may be filed at any time. The filing of a petition to revoke will not automatically stay the transaction.

An original and 10 copies of all pleadings, referring to STB Finance Docket No. 34261, must be filed with the Surface Transportation Board, 1925 K Street, NW., Washington, DC 20423-0001. In addition, a copy of each pleading must be served on Kelvin J. Dowd, Slover & Loftus, 1224 Seventeenth Street, NW., Washington, DC 20036.

Board decisions and notices are available on our Web site at “www.stb.dot.gov.”

Decided: October 22, 2002.
By the Board, David M. Konschnik, Director, Office of Proceedings.
Vernon A. Williams,
Secretary.

[FR Doc. 02-27482 Filed 10-29-02; 8:45 am]

BILLING CODE 4915-00-P